DEPARTMENT OF HOMELAND SECURITY

Coast Guard

33 CFR Part 165

[Docket No. USCG-2019-0548]

Safety Zones; Annual Events Requiring Safety Zones in the Captain of the Port, Lake Michigan Zone—Corn Festival Fireworks

AGENCY: Coast Guard, DHS.

ACTION: Notice of enforcement of regulation.

SUMMARY: The Coast Guard will enforce a safety zone on the Illinois River in Morris, IL. This action is necessary and intended to promote the safety of life and property on navigable waters before, during, and immediately after a shore-based firework display. During the enforcement period listed below, vessels and persons are prohibited from transiting through, mooring, or anchoring within this safety zone without approval from the Captain of the Port, Lake Michigan or his or her designated representative.

DATES: The regulations in 33 Code of Federal Regulations (CFR) 165.929 will be enforced for the location listed in item (h)(1) in Table 165.929 to 33 CFR 165.929 from 8:30 p.m. through 9 p.m. on September 28, 2019.

FOR FURTHER INFORMATION CONTACT: If you have questions about this notice of enforcement, call or email LT John Ramos, Waterways Management Division, Marine Safety Unit Chicago; telephone (630) 986-2155, email address D09-DG-MSUChicago-Waterways@uscg.mil.

SUPPLEMENTARY INFORMATION: The Coast Guard will enforce the Safety Zone; Corn Festival Fireworks listed as item (h)(1) in Table 165.929 of 33 CFR 165.929. Section 165.929 lists many annual events requiring safety zones in the Captain of the Port, Lake Michigan zone. This safety zone will encompass all waters of the Illinois River within an 560 foot radius from approximate launch position at 41°21.173′ N, 88°25.101′ W (NAD 83). This safety zone will be enforced from 8:30 p.m. through 9 p.m. on September 28, 2019.

All vessels must obtain permission from the Captain of the Port, Lake Michigan, or his or her designated on-scene representative to enter, move within, or exit this safety zone during the enforcement times listed in this notice of enforcement. Requests must be made in advance and approved by the Captain of the Port before transits will be authorized. Approvals will be granted on a case-by-case basis. Vessels and persons granted permission to enter the safety zone shall obey all lawful orders or directions of the Captain of the Port, Lake Michigan, or his or her on-scene representative.

This notice of enforcement is issued under authority of 33 CFR 165.929, Safety Zones; Annual events requiring safety zones in the Captain of the Port, Lake Michigan zone, and 5 U.S.C. 552 (a). In addition to this notice of enforcement in the Federal Register, the Coast Guard will provide the maritime community with advance notification of this enforcement period via Broadcast Notice to Mariners and Local Notice to Mariners. The Captain of the Port, Lake Michigan or his or her designated on-scene representative may be contacted via VHF Channel 16 or at (414) 747-7182.

Dated: July 9, 2019.
Thomas J. Stuhlreyer,
Captain, U.S. Coast Guard, Captain of the Port, Lake Michigan.

[FR Doc. 2019-14921 Filed 7-12-19; 8:45 am]

BILLING CODE 9110-04-P